INTERNATIONAL TRADE COMMISSION

[Investigations Nos. 701-TA-430A and 430B and 731-TA-1019A and 1019B (Final)]

Durum and Hard Red Spring Wheat From Canada

Determinations

On the basis of the record ¹ developed in the subject investigations, the United States International Trade Commission (Commission) determines, pursuant to sections 705(b) and 735(b) of the Tariff Act of 1930 (19 U.S.C. 1671d(b) and 1673d(b)) (the Act), that an industry in the United States is materially injured by reason of imports from Canada of hard red spring wheat, provided for in subheadings 1001.90.10 and 1001.90.20 of the Harmonized Tariff Schedule of the United States (HTS), that have been found by the Department of Commerce (Commerce) to be subsidized by the Government of Canada and sold in the United States at less than fair value (LTFV).² The Commission also determines that an industry in the United States is not materially injured or threatened with material injury by reason of imports from Canada of durum wheat, provided for in subheading 1001.10.00 of the HTS, that have been found by Commerce to be subsidized by the Government of Canada and sold in the United States at LTFV.³

¹ The record is defined in § 207.2(f) of the Commission's Rules of Practice and Procedure (19 CFR 207.2(f)).

² Chairman Deanna Tanner Okun and Commissioner Stephen Koplan dissenting. Commissioner Charlotte R. Lane not participating.

³ Commissioner Charlotte R. Lane not participating.

Background

The Commission instituted these investigations effective September 13, 2002, following receipt of a petition filed with the Commission and Commerce by the North Dakota Wheat Commission (hard red spring wheat), Bismarck, ND; the Durum Growers Trade Action Committee (durum wheat), Bismarck, ND; and the U.S. Durum Growers Association (durum wheat), Bismarck, ND. The final phase of the investigations was scheduled by the Commission following notification of preliminary determinations by Commerce that imports of durum and hard red spring wheat from Canada were being subsidized within the meaning of section 703(b) of the Act (19 U.S.C. 1671b(b)) and were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of May 23, 2003 (68 FR 28253).⁴ The hearing was held in Washington, DC, on September 4, 2003, and all persons who requested the opportunity were permitted to appear in person or by counsel.

⁴ A notice of revised scheduling was published in the Federal Register of June 27, 2003 (68 FR 38384).

The Commission transmitted its determinations in these investigations to the Secretary of Commerce on October 16, 2003. The views of the Commission are contained in USITC Publication 3639 (October 2003), entitled Durum and Hard Red Spring Wheat from Canada: Investigations Nos. 701-TA-430A and 430B and 731-TA-1019A and 1019B (Final).

Issued: October 20, 2003.
By order of the Commission.
Marilyn R. Abbott,
Secretary.

[FR Doc. 03-26776 Filed 10-22-03; 8:45 am]

BILLING CODE 7020-02-P